DEPARTMENT OF LABOR

Employment and Training Administration

[TA-W-40,898]

St. Clair Technologies, Inc., Including Leased Workers of Employment Group, Charlotte, Michigan; Amended Certification Regarding Eligibility To Apply for Worker Adjustment Assistance

In accordance with Section 223 of the Trade Act of 1974 (19 U.S.C. 2273) the Department of Labor issued a Certification of Eligibility to Apply for Worker Adjustment Assistance on March 18, 2002, applicable to workers of St. Clair Technologies, Inc., Charlotte, Michigan. The notice was published in the Federal Register on March 29, 2002 (67 FR 15226).

At the request of the State agency, the Department reviewed the certification for workers of the subject firm. Information provided by the State shows that leased workers of Employment Group were employed at St. Clair Technologies, Inc. to produce wiring harnesses at the Charlotte, Michigan location of the subject firm.

Based on these findings, the Department is amending this certification to include leased workers of Employment Group Charlotte, Michigan employed at St. Clair Technologies, Charlotte, Michigan.

The intent of the Department's certification is to include all workers of St. Clair Technologies who were adversely affected by increased imports.

The amended notice applicable to TA-W-40,898 is hereby issued as follows:

All workers of St. Clair Technologies, Charlotte, Michigan including leased workers of Employment Group, Charlotte, Michigan engaged in employment related to the production of wiring harnesses at St. Clair Technologies, Charlotte, Michigan who became totally or partially separated from employment on or after February 4, 2001, through March 18, 2004, are eligible to apply for adjustment assistance under Section 223 of the Trade Act of 1974.

Signed at Washington, DC, this 16th day of May, 2002.
Linda G. Poole,
Certifying Officer, Division of Trade Adjustment Assistance.

[FR Doc. 02-15852 Filed 6-21-02; 8:45 am]

BILLING CODE 4510-30-P